DEPARTMENT OF DEFENSE

Office of the Secretary

[Docket ID: DoD-2015-HA-0060]

Proposed Collection; Comment Request

AGENCY: Office of the Assistant Secretary of Defense for Health Affairs, DoD.

ACTION: Notice.

SUMMARY: In compliance with the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 21, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the TRICARE Dental Care Office, Health Plan Execution and Operation, Defense Health Agency (DHA), Rm 3M 451, ATTN: COL Colleen C. Shull, Falls Church, VA 22042 or call (703) 681-9517, DSN 761.

SUPPLEMENTARY INFORMATION:

Title; Associated Form; and OMB Number: TRDP Enrollment Application; OMB Control Number 0720-0015.

Needs and Uses: This information collection is completed by Uniformed Services members entitled to retired pay and their eligible family members who are seeking enrollment in the TRICARE Retiree Dental Program (TRDP). The information is necessary to enable the DoD-contracted third party administrator of the program to identify the program's applicants, determine their eligibility for TRDP enrollment, establish the premium payment amount, and to verify by the applicant's signature that the applicant understands the benefits and rules of the program.

Affected Public: Business or other for profit; Not-for-profit institutions.

Annual Burden Hours: 12,000.

Number Of Respondents: 48,000.

Responses Per Respondent: 1.

Average Burden Per Response: 15 minutes.

Frequency: On occasion.

Respondents are retired members of the Uniformed Services who elect to enroll themselves and their families into the TRDP. The enrollment application must be completed and submitted to the TRDP contractor, along with two-month premium payment, prior to enrollment. The contractor will validate eligibility and complete the enrollment action.

Dated: June 17, 2015.
Aaron Siegel,
Alternate OSD Federal Register Liaison Officer, Department of Defense.

[FR Doc. 2015-15227 Filed 6-19-15; 8:45 am]

BILLING CODE 5001-06-P